DEPARTMENT OF COMMERCE

National Oceanic and Atmospheric Administration

Notice To Solicit Nominations for Membership on the National Sea Grant Advisory Board (NSGAB)

AGENCY: Office of Oceanic and Atmospheric Research (OAR), National Oceanic and Atmospheric Administration (NOAA), Department of Commerce (DOC).

ACTION: Notice to solicit nominations for membership on the National Sea Grant Advisory Board (NSGAB). https://seagrant.noaa.gov/About/Advisory-Board.

SUMMARY: The National Sea Grant Advisory Board (NSGAB) advises the National Sea Grant College Program (Sea Grant) in the areas of program evaluation, strategic planning, education and extension and science and technology programs. For more information on this Federal Advisory Committee please visit the Federal Advisory Committee database: https://www.facadatabase.gov/FACA/FACAPublicPage. This notice also responds to the Sea Grant Program Improvement Act of 1976, which requires the Secretary of Commerce to solicit nominations at least once a year for membership on the NSGAB. To apply for membership to the Board, applicants should submit a current resume. A cover letter highlighting specific areas of expertise relevant to the purpose of the Board is helpful, but not required. Nominations will be accepted by Email at oar.sg-feedback@noaa.gov. While nominations are always accepted, to be considered for current openings, please submit your nomination no later than January 31, 2025. NOAA is an equal opportunity employer.

SUPPLEMENTARY INFORMATION: The Board, which consists of a balanced representation from academia, industry, state government and citizens groups, was established in 1976 by Section 209 of the Sea Grant Improvement Act (Pub. L. 94-461, 33 U.S.C. 1128). The Board advises the Secretary of Commerce and the Director of the National Sea Grant College Program with respect to operations under the Act, and such other matters as the Secretary refers to them for review and advice.

Privacy Act Statement

Authority. The collection of information concerning nominations to the NSGAB FAC is authorized under the FACA, as amended, 5 U.S.C. App. and its implementing regulations, 41 CFR part 102-3, and in accordance with the Privacy Act of 1974, as amended, (Privacy Act) 5 U.S.C. 552a. Purpose. The collection of names, contact information, resumes, professional information, and qualifications is required in order for the Under Secretary to appoint members to the NSGAB FAC. Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.osec.doc.gov/opog/PrivacyAct/SORNs/dept-11.html, and the System of Records Notice COMMERCE/DEPT-18, Employees Personnel Files Not Covered by Notices of Other Agencies, available at https://www.osec.doc.gov/opog/PrivacyAct/SORNs/DEPT-18.html. Disclosure. Furnishing the nomination information is voluntary; however, if the information is not provided, the individual would not be considered for appointment as a member of the NSGAB FAC.

David Holst,
Chief Financial Officer/Administrative Officer, Office of Oceanic and Atmospheric Research, National Oceanic and Atmospheric Administration.

[FR Doc. 2024-29605 Filed 12-16-24; 8:45 am]

BILLING CODE 3510-KA-P